DEPARTMENT OF AGRICULTURE

Forest Service

Missoula County Resource Advisory Committee

AGENCY: Forest Service, USDA.

ACTION: Notice of meeting.

SUMMARY: The Lolo National Forest's Missoula County Resource Advisory Committee (RAC) will meet on Tuesday, July 27, 2010 from 9 a.m. to 3 p.m., in Missoula, Montana. The purpose of the meeting is to conduct welcomes and introductions, provide an overview of the RAC legislation and RAC mission, establish a process for project proposal evaluation and decision making, set future meeting dates and receive public comment on the meeting subjects and proceedings.

DATES: Tuesday, July 27, 2010 from 9 a.m. to 3 p.m.

ADDRESSES: Missoula County Courthouse, Room 201; 200 West Broadway, Missoula, Montana 59802.

FOR FURTHER INFORMATION CONTACT: Boyd Hartwig; Address: Lolo National Forest, Building 24A Fort Missoula, Missoula, Montana 59804; Phone: 406-329-1024; e-mail: bchartwig@fs.fed.us.

SUPPLEMENTARY INFORMATION: Agenda items to be covered include: (1) Welcome and introductions; (2) provide overview of RAC legislation and RAC mission; (3) establish a process for project evaluation and project recommendations; (4) set next meeting purpose, location and date; (5) receive public comment; and (6) select RAC chairperson. The meeting is open to the public. Public input opportunity will be provided and individuals will have the opportunity to address the Committee at that time.

Dated: July 14, 2010.
Paul Matter,
Missoula District Ranger.

[FR Doc. 2010-17754 Filed 7-20-10; 8:45 am]

BILLING CODE 3410-11-P